Proclamation 9448 of May 13, 2016

Peace Officers Memorial Day and Police Week, 2016

By the President of the United States of America

A Proclamation

For generations, the brave women and men of our Nation's law enforcement have answered the call to serve and protect our communities. Enduring long shifts in dangerous and unpredictable circumstances, our Nation's peace officers embody the courage and honor that represent the best of America. On Peace Officers Memorial Day and during Police Week, we express our gratitude for the selfless public servants who wear the badge and put themselves in harm's way to keep us safe, and we pay respect for those who lost their lives in the line of duty.

In moments of danger and desperation, the first people we turn to are law enforcement officers. These often unsung heroes risk their lives and sacrifice precious time with loved ones so their fellow Americans can live in peace and security. But more than that, they are leaders in their communities, serving as mentors, coaches, friends, and neighbors—working tirelessly each day to ensure that the people they serve have the opportunities that should be afforded to all Americans. In honor of all they do, we must give these dedicated professionals the support and appreciation they deserve.

My Administration continues to work to ensure police departments and other law enforcement agencies throughout our country have the resources required to hire, train, and retain officers, provide officers with modern and necessary equipment, and utilize technology to enhance their communication networks. And our Federal law enforcement officers regularly partner with their State and local counterparts to address some of our Nation's most difficult problems. We know that strong community bonds are essential for law enforcement to do their jobs effectively. I established a Task Force on 21st Century Policing, bringing together law enforcement, academia, youth, civil rights, and community leaders to provide concrete recommendations to enhance public safety while building community trust. Law enforcement officials care deeply about their communities, and together with our partners in law enforcement, we must work to build up our neighborhoods, prevent crime before it happens, and put opportunity within reach for all our people.

Because each fallen peace officer is one too many, I proudly signed the Rafael Ramos and Wenjian Liu National Blue Alert Act last year—bipartisan legislation that establishes a national “Blue Alert” communications network to disseminate information about threats to officers. The legislation seeks to ensure that appropriate steps can be taken as quickly as possible to provide for an officer's safety. I also announced new, commonsense gun safety reforms to help keep guns out of the wrong hands and emphasized that the already dangerous job of an officer is far more dangerous than it should be because it remains too easy for criminals and people who are a danger to others or themselves to have access to guns.

It takes a special kind of courage to be a peace officer. Whether deputies or detectives, tribal police or forest service officers, beat cops or Federal agents, we hold up those who wear the badge as heroes. Though they too often spend their days witnessing America at its worst, in their extraordinary examples, we see America at its best. On this day and throughout this week, let us celebrate those who nobly serve each day—and remember those who made the ultimate sacrifice—to move our world toward a more just and safe tomorrow. May we carry forward their brave and selfless spirit as we keep working together to shape a future worthy of their commitment.

By a joint resolution approved October 1, 1962, as amended (76 Stat. 676), and by Public Law 103-322, as amended (36 U.S.C. 136-137), the President has been authorized and requested to designate May 15 of each year as “Peace Officers Memorial Day” and the week in which it falls as “Police Week.”

NOW, THEREFORE, I, BARACK OBAMA, President of the United States of America, do hereby proclaim May 15, 2016, as Peace Officers Memorial Day and May 15 through May 21, 2016, as Police Week. I call upon all Americans to observe these events with appropriate ceremonies and activities. I also call on the Governors of the United States and its Territories, and appropriate officials of all units of government, to direct that the flag be flown at half-staff on Peace Officers Memorial Day. I further encourage all Americans to display the flag at half-staff from their homes and businesses on that day.

IN WITNESS WHEREOF, I have hereunto set my hand this thirteenth day of May, in the year of our Lord two thousand sixteen, and of the Independence of the United States of America the two hundred and fortieth.

[FR Doc. 2016-11925

Filed 5-17-16; 11:15 am]

Billing code 3295-F6-P